DEPARTMENT OF DEFENSE

Department of the Army, Corps of Engineers

Notice of Availability of Final Environmental Impact Statement for the Proposed Folsom South of U.S. Highway 50 Specific Plan Project, in Sacramento County, CA, Corps Permit Application No. SPK-2007-02159

AGENCY: Department of the Army, U.S. Army Corps of Engineers, DoD.

ACTION: Notice of availability.

SUMMARY: Pursuant to the National Environmental Policy Act (NEPA), the U.S. Army Corps of Engineers (USACE), Sacramento District has prepared a Final Environmental Impact Statement (FEIS) for the Folsom South of U.S. Highway 50 Specific Plan Project, a proposed master-planned, mixed use development within southeastern Sacramento County.

On July 2, 2010, USACE published a notice in the Federal Register (75 FR 38500), informing the public of the availability of the Draft Environmental Impact Statement (DEIS) that analyzes the potential effects of implementing each of six (6) on-site land-use and eleven (11) off-site water supply alternative scenarios for a mixed-use development in the approximately 3,502-acre Folsom South of U.S. Highway 50 Specific Plan Project Area.

The FEIS has been prepared to respond to comments received from agencies, organizations, and members of the public on the 2010 DEIS, and to present corrections, revisions, and other clarifications and amplifications of the 2010 DEIS, including minor project modifications made in response to these comments and as a result of the applicants' ongoing planning efforts.

The FEIS has been prepared as joint documents with the City of Folsom (City). The City is the local agency responsible for preparing an Environmental Impact Report in compliance with the California Environmental Quality Act (CEQA). The USACE is the lead Federal agency responsible for the FEIS and information contained in the DEIS and FEIS serves as the basis for a decision regarding issuance of an individual permit under Section 404 of the Clean Water Act. It also provides information for Federal, state and local agencies having jurisdictional responsibility for affected resources. All incoming comments on the FEIS will be considered by USACE and responses will be provided for substantive issues raised which have not been addressed in the DEIS or FEIS.

DATES: All written comments must be postmarked on or before June 26, 2011.

ADDRESSES: Comments may be submitted in writing to: Lisa M. Gibson, U.S. Army Corps of Engineers, Sacramento District, Regulatory Division; 650 Capitol Mall, Suite 5-200, Sacramento, CA 95814, or via e-mail to Lisa.M.Gibson2@usace.army.mil.

FOR FURTHER INFORMATION CONTACT: Lisa M. Gibson, (916) 557-5288, or via e-mail at Lisa.M.Gibson2@usace.army.mil.

SUPPLEMENTARY INFORMATION: The South Folsom Property Owners Group, the project applicants, are seeking adoption by the City of the proposed SPA project and associated entitlements. The City and the South Folsom Property Owners Group are also seeking authorization from USACE for the placement of dredged or fill material into waters of the United States pursuant to Section 404 of the Clean Water Act. The Proposed Project includes 10,210 residential units at various densities on a total of 1,477.2 acres; 362.8 acres designated for commercial and industrial use, including a regional shopping center; public/quasi-public uses; elementary, middle, and high schools on 179.3 acres; 121.7 acres of community and neighborhood parks; stormwater detention basins; 1,053.1 acres of open-space areas and open-space preserves; and major roads with landscaping. In addition, the proposed project includes the construction of several off-site infrastructure facilities, including intersection expansions to allow access to and from U.S. 50 and the SPA, an overpass of U.S. 50, two roadway connections and sewer pipelines from the SPA into El Dorado Hills, a sewer force main connection to the existing City system, a detention basin and water pipelines and facilities. The SPA contains approximately 84.94 acres of waters of the U.S. The proposed land-use plan would involve the discharge of fill material into approximately 39.50 acres of waters of the U.S., and indirect impacts to 0.29 acres of waters of the U.S. resulting from fragmentation of existing waters. In addition, the proposed land-use plan involves the preservation of approximately 44.19 acres of waters of the U.S., concentrated primarily on the Alder Creek corridor and adjacent tributaries and wetlands.

For the proposed off-site water supply/alignment for the SPA, the City is proposing off-site water facilities that would involve the permanent assignment to the City of the contractual entitlements to Central Valley Project (CVP) contract entitlement water, totaling not more than 8,000 acre-feet per year (AFY) from the Natomas Central Mutual Water Company (NCMWC), diverting the water supply from the Sacramento River and conveying the water to the SPA. The proposed water supply would also involve the City purchasing dedicated capacity within the Freeport Regional Water Project (Freeport Project) from Sacramento County Water Agency (SCWA), which would serve as the point of diversion (POD) on the Sacramento River and partial conveyance pathway for not more than 6,000 AFY purchased from NCMWC. The City proposes to add the Freeport POD to the assigned CVP water to facilitate the diversion of these supplies at the existing Freeport Project diversion. The City proposes to pump and convey the assigned NCMWC CVP water supply through the Freeport Project diversion facility and conveyance pipeline to the point where SCWA and East Bay Municipal Utility District pipelines split. The City would then construct new water supply conveyance infrastructure from the bifurcation point to the SPA within an approximately 200-foot corridor. The corridor for the proposed construction of the water line and the proposed location for water treatment plants contains approximately 50.7 acres of waters of the U.S. The estimate of waters of the U.S. within the proposed water supply corridor was determined based on aerial photographs and National Wetland Inventory maps, and has not been field delineated or verified by USACE. Because the City has not yet completed project specific engineering details for the proposed off-site water supply/alignment, the exact impacts to waters of the U.S. cannot be determined. However, construction of the water supply infrastructure is expected to occur within an area of less than 100 feet in width, and, depending on which side of the corridor construction would occur, would impact an estimated 5.7 acres or 6.8 acres of waters of the U.S.

An electronic version of the FEIS may be viewed at the USACE, Sacramento District Web site: http://www.spk.usace.army.mil/organizations/cespk-co/regulatory/EISs/EIS-index.html: In addition, a hardcopy of the FEIS may also be reviewed at the Folsom Public Library, Georgia Murray Building, 411 Stafford Street, Folsom, California 95630.

Dated: May 12, 2011.
Andrew B. Kiger,
Lieutenant Colonel, U.S. Army, District Engineer.

[FR Doc. 2011-13050 Filed 5-25-11; 8:45 am]

BILLING CODE 3720-58-P